DEPARTMENT OF HOMELAND SECURITY

Coast Guard

[Docket No. USCG-2023-0928]

Shipping Safety Fairways Environmental Impact Public Scoping Meetings

AGENCY: Coast Guard, DHS.

ACTION: Notice.

SUMMARY: The Coast Guard announced a series of public meetings to solicit feedback on the potential environmental impact of shipping safety fairways along the Atlantic coast. The time of two of the meetings has been changed. This notice announces the new times for the Norfolk and virtual public meetings. The email address for the Coast Guard's point of contact with regard to the Atlantic coast fairways has also been updated.

FOR FURTHER INFORMATION CONTACT: For information about this document call or email Maureen Kallgren, Coast Guard; telephone 202-372-1561, email Maureen.R.Kallgren2@uscg.mil.

SUPPLEMENTARY INFORMATION: The notice published on January 23, 2024, announced a series of public meetings. 89 FR 4320. The February 12 meeting at the Jordan Newby Branch at Broad Creek of Norfolk Public Library has been moved to 6 p.m.-8 p.m. EST. The virtual meeting will take place on February 15 from 4 p.m.-6 p.m. EST at https://www.zoomgov.com/j/1616731053.

This notice is issued under authority found in 42 U.S.C. 4332.

Dated: January 26, 2024.
Steven E. Ramassini,
Chief, Office of Navigation Systems.

[FR Doc. 2024-02020 Filed 1-31-24; 8:45 am]

BILLING CODE 9110-04-P